DEPARTMENT OF HEALTH AND HUMAN SERVICES

Administration for Children and Families

Notice of Public Comment on the Proposed Adoption of ANA Program; Policies and Procedures

AGENCY: Administration for Native Americans (ANA).

SUMMARY: Pursuant to section 814 of the Native American Programs Act of 1974; as amended, 42 U.S.C., 2991b-1, the Administration for Native Americans (ANA) herein describes its proposed interpretive rules, general statement of policy and rules of agency procedure or practice in relation to the Social and Economic Development Strategies (SEDS) project SMART NA Communities (Strengthening Marriages and Relationships in Tribal and Native American Communities). For FY 2005, ANA reserved an amount of funding under the SEDS program to fund projects that are beneficial to the development of healthy Native American communities. ANA has decided to participate in ACF's Healthy Marriage Initiative, and intends to use the reserved SEDS funds to support projects that improve child well-being by removing barriers associated with forming and retaining healthy families and marriages in Native American communities. Under the statute, ANA is required to provide members of the public an opportunity to comment on proposed changes in interpretive rules, statements of general policy, and rule of agency procedure or practice and to give notice of the final adoption of such changes at least 30 days before the changes become effective. The notice also provides additional information about ANA's plan for administering the programs.

DATES: The deadline for receipt of comments is 30 days from date of publication in the Federal Register.

ADDRESSES: Comments in response to this notice should be addressed to Sheila Cooper, Director of Programs Operations, Administration for Native Americans, 370 L'Enfant Promenade, SW., Mail Stop: Aerospace 8—West, Washington, DC 20447. Delays may occur in mail delivery to Federal offices; therefore, a copy of comments should be faxed to: (202) 690-7441. Comments will be available for inspection by members of the public at the Administration for Native Americans, Aerospace Center, 901 D Street, SW., Washington, DC 20447.

FOR FURTHER INFORMATION CONTACT: Sheila Cooper, toll free at (877) 922-9262.

SUPPLEMENTARY INFORMATION: Section 814 of the Native American Programs Act of 1974 (the Act), as amended, requires ANA to provide notice of its proposed interpretive rules, statements of policy and rule of agency organization, procedure or practice. These proposed clarifications, modifications and new text will appear in the ANA FY 2005 program announcements: SEDS—SMART NA Communities.

Additional Information

1. General

This SEDS SMART NA Communities program area incorporates a majority of the requirements as contained in the SEDS program announcement. There are a few instances where ANA has opted to change the request for information for this program area only. The differences are noted below.

2. Evaluation Criteria

The Impact Indicators, as established in the FY 2005 SEDS program announcement under ANA Evaluation Criteria Five, will be used for this demonstration project except for the following: (2) Number of codes or ordinances developed and implemented; (3) number of people to successfully complete a workshop/ training; (8) number of community-based small businesses established or expanded; (9) identification of Tribal or Village government business, industry, energy or financial codes or ordinances that were adopted or enacted; and (10) number of micro-businesses started. ANA does not believe that the capture of this data will affect the impact or demonstrate the success of the grants. The number of suggested ANA Impact Indicators has been reduced to five indicators. (Legal authority: Section 803(a) and (d), 803B and 803C of the Native Americans Programs Act of 1974, as amended, 42 U.S.C. 2991b, 2991b-2 and 2991b-3).

3. ANA Funding Restrictions

ANA will use the Funding Restrictions established under the FY 2005 SEDS program announcement, except for the following: Core Administration has been modified to remove the last sentence “Under Alaska SEDS projects, ANA will consider funding core administrative capacity building projects at the village government level if the village does not have governing systems in place.” and “Projects that do not further the three interrelated ANA goals of economic development, social development and governance or meet the purpose of this program announcement.” This demonstration project is not associated with the Alaska SEDS program area nor is it intended to interrelate to the goals of economic development, social development or governance. (Legal authority: Sections 803(a) and (d) and 803C of the Native Americans Programs Act of 1974 as amended, 42 U.S.C. 2991b and 2991b-3 and 45 CFR 1336.33)

4. Administrative Policies

ANA will be using the administrative policies as included in the FY 2005 SEDS program announcement except: “An applicant can have only one active ANA SEDS grant operating at any given time” and “Applicants proposing an Economic Development project must address the project's viability. A business plan, if applicable, must be included to describe the project's feasibility, cash flow and approach for the implementation and marketing of the business.” Neither of these policies apply to this program. Special initiative awards such as this program will be issued a SEDS grant number and therefore an entity will be able to administer a regular SEDS award in addition to this project. Business development and the promotion of economic development are not components of this demonstration. (Legal authority: Sections 803(a) and (d) and 803C of the Native American Programs Act of 1974, as amended, and 45 U.S.C. 2991b and 2991b-3).

5. Funding Thresholds

The funding threshold for this demonstration project will be $50,000.00 (floor amount) to $150,000.00 (ceiling amount) per budget period. Applications exceeding the $150,000.00 threshold will be considered non-responsive and will not be considered for funding under this announcement. (Legal authority: Sections 803(a) and (d) and 803C of the Native American Programs Act of 1974, as amended, 42 U.S.C. 2991b and 2991b-3.)

Dated: May 24, 2005.
Kimberly Romine,
Deputy Commissioner, Administration for Native Americans.

[FR Doc. 05-10660 Filed 5-26-05; 8:45 am]

BILLING CODE 4184-01-P